DEPARTMENT OF COMMERCE

Foreign-Trade Zones Board

[B-8-2013]

Foreign-Trade Zone 129—Bellingham, WA; Notification of Proposed Production Activity; T.C. Trading Company, Inc. (Eyeglass Assembly and Kitting); Blaine, WA

The Port of Bellingham, grantee of FTZ 129, submitted a notification of proposed production activity on behalf of T.C. Trading Company, Inc. (T.C. Trading), located in Blaine, Washington. The notification conforming to the requirements of the regulations of the Board (15 CFR 400.22) was received on January 17, 2013.

A separate application for subzone status at the company facility was submitted and will be processed under Section 400.31 of the Board's regulations. The facility is used for the assembly and kitting of eyeglasses and eyeglass products. Pursuant to 15 CFR 400.14(b)4 of the regulations, FTZ activity would be limited to the specific foreign-status materials and components and specific finished products described in the submitted notification (as described below) and subsequently authorized by the FTZ Board.

Production under FTZ procedures could exempt T.C. Trading from customs duty payments on the foreign status components used in export production. On its domestic sales, T.C. Trading would be able to choose the duty rates during customs entry procedures that apply to eyeglasses (duty rate 2.5%) for the foreign status inputs noted below. Customs duties also could possibly be deferred or reduced on foreign status production equipment.

The components and materials sourced from abroad include plastic eyeglass lenses, plastic eyeglass frames, metal eyeglass frames, eyeglass repair kits and plastic eyeglass cases (duty rate ranges from free to 20%).

Public comment is invited from interested parties. Submissions shall be addressed to the Board's Executive Secretary at the address below. The closing period for their receipt is March 13, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: January 25, 2013.
Andrew McGilvray,
Executive Secretary.

[FR Doc. 2013-02204 Filed 1-31-13; 8:45 am]

BILLING CODE P